NATIONAL AERONAUTICS AND SPACE ADMINISTRATION

[Notice (15-087)]

Privacy Act of 1974; Privacy Act System of Records

AGENCY: National Aeronautics and Space Administration (NASA).

ACTION: Notice of the retirement of Privacy Act systems of records notice.

SUMMARY: In accordance with the Privacy Act of 1974, NASA is giving notice that it proposes to cancel the following Privacy Act systems of records, NASA Aeronautics Scholarship Program (October 17, 2011, 76 FR 64115) and Government Motor Vehicle Operators Permit Records. (September 30, 2009, 74 FR 50250).

DATES: Submit comments within 30 calendar days from the date of this publication. The changes will take effect at the end of that period, if no adverse comments are received.

FOR FURTHER INFORMATION CONTACT: Patti F. Stockman, Privacy Act Officer, Office of the Chief Information Officer, National Aeronautics and Space Administration Headquarters, Washington, DC 20546-0001, (202) 358-4787, NASA-PAOfficer@nasa.gov.

SUPPLEMENTARY INFORMATION: Pursuant to the provisions of the Privacy Act of 1974, 5 U.S.C. 552a, and as part of its biennial System of Records review efforts, NASA is cancelling two of its systems of records:

NASA Aeronautics Scholarship Program (October 17, 2011, 76 FR 64115) because all information contained in these records is now covered under NASA's recently revised system of records NASA 10EDUA, NASA Education Records (March 17, 2015, 80 FR 13899).

Government Motor Vehicle Operators Permit Records. (09-085, September 30, 2009, 74 FR 50250) is cancelled because the Agency no longer maintains record described therein.

Renee P. Wynn,
NASA Chief Information Officer.

[FR Doc. 2015-25357 Filed 10-5-15; 8:45 am]

BILLING CODE 7510-13-P